ENVIRONMENTAL PROTECTION AGENCY

40 CFR Part 52

[IL212-1b;FRL-7098-9]

Approval and Promulgation of Implementation Plans; Illinois

AGENCY: Environmental Protection Agency (EPA).

ACTION: Proposed rule.

SUMMARY: The EPA is proposing to approve revisions to volatile organic compound (VOC) rules for Formel Industries, Incorporated (Formel). This flexographic printing facility is located in Cook County, Illinois. The revisions, submitted on March 21, 2001, consist of an adjusted standard from the Flexographic Printing Rule, 35 IAC 218.401(a), (b), and (c). The adjusted standard conditions include participation in the market-based emissions trading system, daily record keeping of inks and VOC content, conducting trials of compliant inks, and reviewing alternate control technologies. The Illinois Pollution Control Board approved this adjusted standard because the Board considers this to be the Reasonably Achievable Control Technology for Formel.

DATES: The EPA must receive written comments by January 11, 2002.

ADDRESSES: You should mail written comments to: J. Elmer Bortzer, Chief, Regulation Development Section, Air Programs Branch (AR-18J), U.S. Environmental Protection Agency, Region 5, 77 West Jackson Boulevard, Chicago, IL 60604.

You may inspect copies of Illinois's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, IL 60604, Telephone: (312) 886-6524.

SUPPLEMENTARY INFORMATION: Throughout this document wherever “we,” “us,” or “our” are used we mean the EPA.

Table of Contents

I. What actions are the EPA taking today?

II. Where can I find more information about this proposal and the corresponding direct final rule?

I. What Actions Are the EPA Taking Today?

The EPA is proposing to approve revisions to VOC rules for Formel of Cook County, Illinois. The revisions consist of an adjusted standard from the Flexographic Printing Rule, 35 IAC 218.401(a), (b), and (c). The adjusted standard conditions include participation in a market-based emissions trading system, daily record keeping of inks and VOC content, conducting trials of compliant inks, and reviewing alternate control technologies.

The market-based trading system will allow Formel to buy emissions allotments from companies which can reduce their VOC emissions at a lower cost than Formel can. The total VOC emissions of all participants meets the desired reductions for the non-attainment area. Limiting VOC emissions will help to reduce ozone because VOC can chemically react in the atmosphere to form ozone.

II. Where Can I Find More Information About This Proposal and the Corresponding Direct Final Rule?

For additional information see the direct final rule published in the rules section of this Federal Register.

List of Subjects in 40 CFR Part 52

Environmental protection, Air pollution control, Intergovernmental relations, Reporting and recordkeeping requirements, Volatile organic compounds.

Dated: October 25, 2001.
David A. Ullrich,
Deputy Regional Administrator, Region 5.

[FR Doc. 01-30582 Filed 12-11-01; 8:45 am]

BILLING CODE 6560-50-P